DEPARTMENT OF DEFENSE

Department of the Army, Corps of Engineers

RIN 0710-ZA04

Proposed Suspension and Modification of Nationwide Permit 21

AGENCY: United States Army Corps of Engineers, Department of Defense.

ACTION: Notice of public hearings.

SUMMARY: In the July 15, 2009, issue of the Federal Register (74 FR 34311) the U.S. Army Corps of Engineers published a proposal to take two actions concerning Nationwide Permit 21, which authorizes discharges of dredged or fill material into waters of the United States for surface coal mining activities. The two proposed actions are to suspend NWP 21 to prohibit its use to authorize surface coal mining activities in the Appalachian region of Kentucky, Ohio, Pennsylvania, Tennessee, Virginia, and West Virginia, and then to modify NWP 21 to make that prohibition permanent until NWP 21 expires on March 18, 2012. In the July 15, 2009, notice we also offered commenters opportunity to request a public hearing. In the August 13, 2009, issue of the Federal Register (74 FR 40815), we extended the comment period to September 14, 2009. We have received several requests to hold public hearings, and have determined that hearings would afford us the opportunity to gain additional information to assist us in reaching decisions on these two proposed actions. Therefore, we will be holding public hearings in each of the six affected states. Written comments to supplement the hearing records may be submitted until October 26, 2009.

DATES: See SUPPLEMENTARY INFORMATION section for public hearing dates. Written comments to supplement the hearing records may be submitted until October 26, 2009.

ADDRESSES: See SUPPLEMENTARY INFORMATION section for public hearing addresses. Written comments to supplement the hearing records may be submitted by any of the following methods:

Federal eRulemaking Portal: http://www.regulations.gov. Follow the instructions for submitting comments to supplement the hearing records to docket number COE-2009-0032.

Mail: U.S. Army Corps of Engineers, Attn: CECW-CO (Attn: Ms. Desiree Hann), 441 G Street, NW., Washington, DC 20314-1000.

Hand Delivery/Courier: Due to security requirements, we cannot receive comments to supplement the hearing records by hand delivery or courier.

FOR FURTHER INFORMATION CONTACT: Ms. Desiree Hann or Mr. David Olson, Headquarters, Operations and Regulatory Community of Practice, Washington, DC. Ms. Hann can be reached at 202-761-4560 and Mr. Olson can be reached at 202-761-4922.

SUPPLEMENTARY INFORMATION: In the July 15, 2009, issue of the Federal Register (74 FR 34311) the U.S. Army Corps of Engineers (Corps) published a proposal to take two actions concerning Nationwide Permit 21, which authorizes discharges of dredged or fill material into waters of the United States for surface coal mining activities. In the August 13, 2009, issue of the Federal Register (74 FR 40815) the Corps announced the extension of the comment period for those two proposed actions to September 14, 2009.

We have received several requests for public hearings. Most of those requests have asked that we conduct six public hearings, one in each of the six states proposed to be affected by the suspension and modification of NWP 21, including Kentucky, Ohio, Pennsylvania, Tennessee, Virginia, and West Virginia. Since we have determined that the hearings would likely provide additional information to assist us in our decision making for the two proposed actions, we have decided to hold six public hearings in cities that are either in or near the coalfield regions in each of these six states. The legal authority for these hearings is Section 404 of the Clean Water Act (33 U.S.C. 1344).

The hearings are open to the public. Comments may be submitted in person at the hearing or in writing to the Chief of Engineers through the methods listed in the ADDRESSES section above. Filing of written statements would be helpful and facilitate the job of the court reporters. All hearings will be transcribed. Depending on the number of people of who wish to speak at each public hearing, the hearing officer may impose a time limit for each speaker, so that everyone who wishes to speak will be given the opportunity to do so. Each public hearing will be held in accordance with the Corps public hearing regulations at 33 CFR Part 327. Written comments to supplement the hearing records may be submitted until October 26, 2009.

The public hearings will be held on the following dates and at the following locations:

1. Huntington District: October 13, 2009, in Charleston, West Virginia at the Charleston Civic Center, Little Theatre. The public hearing will start at 7 p.m. Additional information on this public hearing will be available at: http://www.lrh.usace.army.mil/permits/publicnotices/wv/.

2. Huntington District: October 15, 2009, in Cambridge, Ohio at the Pritchard Laughlin Civic Center. The public hearing will start at 7 p.m. Additional information on this public hearing will be available at: http://www.lrh.usace.army.mil/permits/publicnotices/oh/.

3. Louisville District: October 13, 2009, in Pikeville, Kentucky at the East Kentucky Expo Center. The public hearing will start at 7 p.m. Additional information on this public hearing will be available at: http://www.lrl.usace.army.mil/.

4. Nashville District: October 13, 2009, in Knoxville, Tennessee. The public hearing will start at 7 p.m. Additional information on this public hearing will be available at: http://www.lrn.usace.army.mil/cof/special_notices.htm.

5. Pittsburgh District: October 15, 2009, in Pittsburgh, Pennsylvania. The public hearing will start at 7 p.m. Additional information on this public hearing will be available at: http://www.lrp.usace.army.mil/or/or-f/public_notice.htm.

6. Norfolk District: October 15, 2009, in Big Stone Gap, Virginia at Mountain Empire Community College. The public hearing will start at 7 p.m. Additional information on this public hearing will be available at: http://www.nao.usace.army.mil/technical%20services/Regulatory%20branch/PN/PN.asp.

Specific information for each public hearing, including the addresses of the hearing locations, will be posted on the district Web sites listed above.

Dated: September 3, 2009.
Michael G. Ensch,
Chief, Operations, Directorate of Civil Works.

[FR Doc. E9-21792 Filed 9-9-09; 8:45 am]

BILLING CODE 3710-92-P